DEPARTMENT OF THE INTERIOR

National Park Service

Decision Record and Finding of No Significant Impact (FONSI) for the Proposal To Reconstruct the Entrance Station at Great Falls Park, VA

AGENCY: National Park Service, Interior.

ACTION: Availability of the decision record and FONSI for the proposal to reconstruct the entrance station at Great Falls Park, Virginia.

SUMMARY: Pursuant to Council on Environmental Quality regulations and National Park Service policy, the National Park Service (NPS) announces the availability of the decision record and FONSI for the reconstruction of the entrance station at Great Falls Park, a unit of the George Washington Memorial Parkway (GWMP). The decision record and FONSI identifies Alternative C as the preferred and environmentally preferred alternative in the Environmental Assessment for the Great Falls Entrance Station Reconstruction. Under this alternative, the current one-story entrance station occupying approximately 100 square feet will be replaced by a one-story tall facility of approximately 240 square feet. The new entrance station will be constructed to meet all accessibility standards and include a restroom facility within the building for NPS employees who work in the entrance station. Traffic flow management patterns and procedures are expected to improve through an additional inbound lane located to the west of the new entrance station.

DATES: The Environmental Assessment, upon which the FONSI was made, was available for public comment from April 11-May 11, 2002. Two comments were received, both in favor of the identified preferred alternative.

ADDRESSES: The decision record and FONSI will be available for public inspection Monday through Friday, 8 a.m. through 4 p.m. at the GWMP Headquarters, Turkey Run Park, McLean, Virginia.

FOR FURTHER INFORMATION CONTACT: Ms. Ann Brazinski (703) 289-2541.

SUPPLEMENTARY INFORMATION: The decision record and FONSI completes the Environmental Assessment process.

Audrey F. Calhoun,
Superintendent, George Washington Memorial Parkway.

[FR Doc. 02-23012 Filed 9-10-02; 8:45 am]

BILLING CODE 4310-70-P